NATIONAL AERONAUTICS AND SPACE ADMINISTRATION

[Notice (12-104)]

NASA Advisory Council; Science Committee; Planetary Protection Subcommittee; Meeting

AGENCY: National Aeronautics and Space Administration.

ACTION: Notice of meeting.

SUMMARY: In accordance with the Federal Advisory Committee Act, Public Law 92-463, as amended, the National Aeronautics and Space Administration (NASA) announces a meeting of the Planetary Protection Subcommittee of the NASA Advisory Council (NAC). This Subcommittee reports to the Science Committee of the NAC. The Meeting will be held for the purpose of soliciting from the scientific community and other person's scientific and technical information relevant to program planning.

DATES: Wednesday, December 19, 2012, 9:00 a.m. to 4:30 p.m., and Thursday, December 20, 2012, 8:30 a.m. to 3:00 p.m. Local Time.

ADDRESSES: NASA Headquarters, 300 E Street SW., Room 7H45 and 9H40, respectively, Washington, DC 20546.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The meeting will also be available telephonically and by WebEx. Any interested person may call the USA toll free conference call number 800-988-9533, pass code PPS, to participate in this meeting by telephone. The WebEx link is https://nasa.webex.com/, the meeting number on December 19 is 994 053 572, password PPS@Dec19; the meeting number on December 20 is 997 808 043, password PPS@Dec20. The agenda for the meeting includes the following topics:

—Update on NASA Planetary Protection Activities

—Potential Technology Investments to Support Planetary Protection Requirements

It is imperative that the meeting be held on these dates to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Marian Norris via email at mnorris@nasa.gov or by fax at (202) 358-1377. U.S. citizens and green card holders are requested to submit their name and affiliation 3 working days prior to the meeting to Marian Norris.

Susan M. Burch,
Acting Advisory Committee Management Officer, National Aeronautics and Space Administration.

[FR Doc. 2012-29119 Filed 11-30-12; 8:45 am]

BILLING CODE 7510-13-P